SMALL BUSINESS ADMINISTRATION

Regional Small Business Regulatory Fairness Boards; Training and Public Meeting

The U.S. Small Business Administration (SBA), Regulatory Fairness Board and the SBA Office of the National Ombudsman will hold a public meeting and training conference on Thursday and Friday, September 14-15, 2006, at 9 a.m. The meeting will take place at the U.S. Small Business Administration Headquarters, Eisenhower Conference Room, 2nd Floor, 409 3rd Street, SW., Washington, DC 20416. The meeting was originally scheduled to be a training session only but the format has been changed to include a discussion of Board business. The purpose of the meeting is to advise the National Ombudsman on matters of concern to small businesses relating to the enforcement activities of federal agencies and to orient new Board Members. Any member of the public who wishes to participate should contact José Méndez, Event Coordinator, SBA, 409 3rd Street, SW., Suite 7125, Washington, DC 20416, phone (202) 205-6178 and fax (202) 481-2707, e-mail: jose.mendez@sba.gov.

For more information, see our Web site at http://www.sba.gov/ombudsman.

Thomas M. Dryer,
Acting Committee Management Officer.

[FR Doc. E6-15370 Filed 9-15-06; 8:45 am]

BILLING CODE 8025-01-P